ENVIRONMENTAL PROTECTION AGENCY

[EPA-HQ-ORD-2015-0765; FRL-9939-36-ORD]

Board of Scientific Counselors Executive Committee; Notification of Public Meeting and Public Comment

AGENCY: Environmental Protection Agency (EPA).

ACTION: Notification of public meeting and public comment.

SUMMARY: Pursuant to the Federal Advisory Committee Act, Public Law 92-463, the U.S. Environmental Protection Agency (EPA) hereby provides notice that the Board of Scientific Counselors (BOSC) Executive Committee will host a public meeting convening on Tuesday, December 8, 2015, and adjourning Thursday, December 10, 2015. The primary discussion will focus on the draft reports from the BOSC subcommittee meetings which addressed the research and future direction for the Office of Research and Development's (ORD) National Research Programs: Air, Climate and Energy, Chemical Safety for Sustainability, Homeland Security, Human Health Risk Assessment, Safe and Sustainable Water Resources, Sustainable and Healthy Communities. The Committee will also deliberate on two ORD Cross-Cutting Research Roadmaps: Environmental Justice and Climate Change. There will be a public comment period from 10:00 a.m. to 10:30 a.m. Eastern Time on December 8, 2015.

For information about registering to attend the meeting or to provide public comment, please see the Registration and SUPPLEMENTARY INFORMATION sections below. Due to a limited number of telephone lines, attendance will be on a first-come, first-served basis. Pre-registration is required. Registration for participating via teleconference closes Friday, December 4, 2015. Registration to participate in person closes Monday, November 30, 2015. The deadline to sign up to speak during the public comment period or to submit written public comment is Friday, December 4, 2015.

DATES: The BOSC Executive Committee meeting will be held on Tuesday, December 8, 2015, from 9:00 a.m. to 5:30 p.m., Wednesday, December 9, 2015, from 9:30 a.m. to 6:00 p.m., and Thursday, December 10, 2015, from 8:30 a.m. until 2:00 p.m. All times noted are Eastern Time and are approximate.

Registration: In order to participate either via teleconference or in person, you must register at the following site: https://www.eventbrite.com/e/us-epa-bosc-executive-committee-public-meeting-registration-19431552296. Once you have completed the online registration you will be contacted and provided with call-in or in-person instructions.

FOR FURTHER INFORMATION CONTACT: Questions or correspondence concerning the meeting should be directed to Tom Tracy, Designated Federal Officer, Environmental Protection Agency, by mail at 1200 Pennsylvania Avenue NW., (MC 8104 R), Washington, DC 20460, by telephone at 202-564-6518, fax at 202-565-2911or via email at tracy.tom@epa.gov.

SUPPLEMENTARY INFORMATION: The Charter of the BOSC states that the advisory committee shall provide independent advice to the Administrator on technical and management aspects of the ORD's research program. Additional information about the BOSC is available at: http://www2.epa.gov/bosc.

Oral Statements: Members of the public who wish to provide oral comment during the meeting must pre-register. Individuals or groups making remarks during the public comment period will be limited to five (5) minutes. To accommodate the number of people who want to address the BOSC Executive Committee, only one representative of a particular community, organization, or group will be allowed to speak.

Written Statements: Written comments for the public meeting must be received by Friday, December 4, 2015, and will be included in the materials distributed to the BOSC Executive Committee prior to the meeting. Written comments should be sent to Tom Tracy, Environmental Protection Agency, via email at tracy.tom@epa.gov or by mail to 1200 Pennsylvania Avenue NW., (MC 8104 R), Washington, DC 20460, or submitted through regulations.gov, Docket ID No. EPA-HQ-ORD-2015-0765. Members of the public should be aware that their personal contact information, if included in any written comments, may be posted online at regulations.gov.

Information about Services for Individuals with Disabilities: For information about access or services for individuals with disabilities, please contact Tom Tracy, at 202-564-6518 or via email at tracy.tom@epa.gov. To request special accommodations for a disability, please contact Tom Tracy no later than Friday, December 4, 2015, to give the Environmental Protection Agency sufficient time to process your request. All requests should be sent to the address, email, or phone number listed in the FOR FURTHER INFORMATION CONTACT section above.

Dated: November 19, 2015.
Fred S. Hauchman,
Director, Office of Science Policy.

[FR Doc. 2015-30102 Filed 11-24-15; 8:45 am]

BILLING CODE 6560-50-P